DEPARTMENT OF THE INTERIOR

Fish and Wildlife Service

50 CFR Part 92

[Docket No. FWS-R7-MB-2020-0134; FXMB12610700000-201-FF07M01000]

RIN 1018-BF08

Migratory Bird Subsistence Harvest in Alaska; Harvest Regulations for Migratory Birds in Alaska During the 2021 Season; Correction

AGENCY: Fish and Wildlife Service, Interior.

ACTION: Final rule; correction.

SUMMARY: The U.S. Fish and Wildlife Service recently issued a final rule that revised the migratory bird subsistence harvest regulations in Alaska. The final rule included an improperly worded amendatory instruction that resulted in the unintentional removal of regulatory text. This document corrects that inadvertent error and restores the regulations to their proper wording.

DATES: This correction is effective April 28, 2021.

ADDRESSES: You may find the rulemaking action at the Federal eRulemaking Portal: http://www.regulations.gov in Docket No. FWS-R7-MB-2020-0134.

SUPPLEMENTARY INFORMATION: On April 19, 2021, we published a final rule (86 FR 20311) that was effective upon publication and that revised certain regulations in title 50 of the Code of Federal Regulations (CFR) in part 92. The amendatory instructions to the Office of the Federal Register (OFR) for the revisions to § 92.31 included an instruction to revise paragraph (e); however, the instruction should have been to revise the introductory text of paragraph (e). By instructing OFR to revise paragraph (e) to read as set forth in the rule, we inadvertently instructed OFR to replace all of paragraph (e), which at the time of publication of the April 19, 2021, rule included subparagraphs (e)(1) and (2), with the text set forth in the rule. However, we did not mean to remove paragraphs (e)(1) and (2) from the CFR; our intention was only to revise the introductory text of paragraph (e).

Accordingly, this rule corrects our inadvertent error by adding paragraphs (e)(1) and (2) back to § 92.31.

Administrative Procedure

We have determined, pursuant to 5 U.S.C. 553(b)(3)(B), that prior notice and opportunity for public comment are impractical and unnecessary. Public comment could not inform this correction process in any meaningful way. We have further determined that, under 5 U.S.C. 553(d)(3), the agency has good cause to make this rule effective upon publication, as it is important for the proper administration of our programs for our regulations in the CFR to be completely and correctly worded.

List of Subjects in 50 CFR Part 92

Hunting, Treaties, Wildlife.

Regulation Promulgation

For the reasons given in the preamble, we amend part 92, of subchapter G of chapter I, title 50 of the Code of Federal Regulations, as follows:

PART 92—MIGRATORY BIRD SUBSISTENCE HARVEST IN ALASKA

1. The authority citation for part 92 continues to read as follows:

Authority: 16 U.S.C. 703-712.

2. Amend § 92.31 by adding paragraphs (e)(1) and (2) to read as follows:

§ 92.31 Region-specific regulations.

* * * * *

(e) * * *

(1) Season: April 2-June 30 and July 31-August 31 for seabirds; April 2-June 20 and July 22-August 31 for all other birds.

(2) Closure: July 1-July 30 for seabirds; June 21-July 21 for all other birds.

* * * * *

Madonna Baucum,
Regulations and Policy Chief, Division of Policy, Economics, Risk Management, and Analytics, Joint Administrative Operations, U.S. Fish and Wildlife Service.

[FR Doc. 2021-08792 Filed 4-27-21; 8:45 am]

BILLING CODE 4333-15-P